DEPARTMENT OF ENERGY

[OE Docket No. EA-434-A]

Application To Export Electric Energy; Southwest Power Pool, Inc.

AGENCY: Office of Electricity, Department of Energy.

ACTION: Notice of application.

SUMMARY: Southwest Power Pool, Inc. (Applicant or SPP) has applied for authorization to transmit electric energy from the United States to Canada pursuant to the Federal Power Act.

DATES: Comments, protests, or motions to intervene must be submitted on or before December 9, 2021.

ADDRESSES: Comments, protests, motions to intervene, or requests for more information should be addressed by electronic mail to Electricity.Exports@hq.doe.gov, or by facsimile to (202) 586-8008.

FOR FURTHER INFORMATION CONTACT: Matt Aronoff, 202-586-5863, matthew.aronoff@hq.doe.gov.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On September 30, 2021, SPP filed an application with DOE (Application or App.) to transmit electric energy from the United States to Canada “for an additional five-year term beginning on February 7, 2022, the date its current export authorization is set to expire.” App. at 1. SPP states that it “is an Arkansas non-profit corporation with its principal place of business in Little Rock, Arkansas.” Id. at 3. SPP represents that, “[a]lthough [it] administers the Integrated Marketplace for wholesale sales of electricity and transmission service across the transmission lines of its member utilities, . . . [it] does not own electric transmission or generation facilities and does not have a retail service area for the sale of electricity.” Id. at 4.

SPP explains that it “seeks authorization to continue to export electric energy to Canada on an emergency basis via facilities owned by its member Basin Electric.” App. at 9. SPP adds that before it applied initially for authorization in 2016, it “entered into a Joint Operating Agreement with Saskatchewan Power Corporation (“SaskPower”) . . . that allows SPP to make emergency sales at the United States-Canada border to SaskPower over the Tioga-Sask Intertie, which . . . is an authorized export facility under Presidential Permit No. PP-64.” Id. SPP contends that its proposed exports “will not impair the sufficiency of electric supply within the United States or impede or tend to impede the coordination in the public interest of facilities subject to the jurisdiction of FERC [sic].” Id. at 11-12.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning SPP's application to export electric energy to Canada should be clearly marked with OE Docket No. EA-434-A. Additional copies are to be provided directly to Joseph W. Ghormley, 201 Worthen Drive, Little Rock, AR 72223, jghormley@spp.org; Matthew J. Binette, 1200 G Street NW, Suite 600, Washington, DC 20005, binette@wrightlaw.com; Victoria M. Lauterbach, 1200 G Street NW, Suite 600, Washington, DC 20005, lauterbach@wrightlaw.com; and Uju Okasi, 1200 G Street NW, Suite 600, Washington, DC 20005, okasi@wrightlaw.com.

A final decision will be made on the requested authorization after the environmental impacts have been evaluated pursuant to DOE's National Environmental Policy Act Implementing Procedures (10 CFR part 1021) and after DOE evaluates whether the proposed action will have an adverse impact on the sufficiency of supply or the reliability of the U.S. electric power supply system.

Copies of the Application will be made available, upon request, by accessing the program website at http://energy.gov/node/11845, or by emailing Matt Aronoff at matthew.aronoff@hq.doe.gov.

Signed in Washington, DC, on November 4, 2021.
Christopher Lawrence,
Management and Program Analyst, Electricity Delivery Division, Office of Electricity.

[FR Doc. 2021-24465 Filed 11-8-21; 8:45 am]

BILLING CODE 6450-01-P